FEDERAL ACCOUNTING STANDARDS ADVISORY BOARD

Report and Guidance Documents

AGENCY: Federal Accounting Standards Advisory Board

ACTION: Notice of New Exposure Draft Eliminating the Category National Defense Property, Plant, and Equipment.

Board Action: Pursuant to the Federal Advisory Committee Act (Pub. L. No. 92-463), as amended, and the FASAB Rules Of Procedure, as amended in October, 1999, notice is hereby given that the Federal Accounting Standards Advisory Board has published a new exposure draft, Eliminating the Category National Defense Property, Plant, and Equipment.

A summary of the proposed Statement follows: On March 25, 2002, the Federal Accounting Standards Advisory Board (FASAB) released for public comment an exposure draft (ED) to amend Statement of Federal Financial Accounting Standards (SFFAS) 8, Supplementary Stewardship Reporting, and Statement of Federal Financial Accounting Standards (SFFAS) 6, Accounting for Property, Plant and Equipment. The amendment proposed in the ED would make the following changes. The term “ND PP&E” would be rescinded. All items previously considered ND PP&E would be classified as general PP&E. Accordingly, these items would be capitalized and, with the exception of land and land improvements that produce permanent benefits, depreciated. This ED also notes that all entities are permitted to use the composite or group depreciation methodology to calculate depreciation. The amendments proposed in this ED would take effect for accounting periods beginning after September 2002.

The exposure draft will soon be mailed to FASAB's mailing list of subscribers. Additionally, it is available on FASAB's home page http://www.fasab.gov/. Copies can be obtained by contacting FASAB at (202) 512-7350, or wascakr@fasab.gov. Respondents are encouraged to comment on any part of the exposure draft.

Written comments are requested by May 20, 2002, and should be sent to: Wendy M. Comes, Executive Director, Federal Accounting Standards Advisory Board, 441 G Street, NW., Suite 6814, Mail Stop 6K17V, Washington, DC 20548.

FOR FURTHER INFORMATION CONTACT: Wendy Comes, Executive Director, 441 G St., NW., 6814, Washington, D.C. 20548, or call (202) 512-7350.

Authority: Federal Advisory Committee Act. Pub. L. No. 92-463.

Dated: March 25, 2002.
Wendy M. Comes,
Executive Director.

[FR Doc. 02-7435 Filed 3-27-02; 8:45 am]

BILLING CODE 1610-01-M